DEPARTMENT OF COMMERCE

National Oceanic and Atmospheric Administration

50 CFR Part 679

[Docket No.000211040-0040-01; I.D. 040300A]

Fisheries of the Exclusive Economic Zone Off Alaska; Atka Mackerel in the Central Aleutian District of the Bering Sea and Aleutian Islands

AGENCY: National Marine Fisheries Service (NMFS), National Oceanic and Atmospheric Administration (NOAA), Commerce.

ACTION: Modification of a closure.

SUMMARY: NMFS is opening directed fishing for Atka mackerel in the Central Aleutian District of the Bering Sea and Aleutian Islands management area (BSAI) and is prohibiting trawling within Steller sea lion critical habitat in the Central Aleutian District of the BSAI. These actions are necessary to fully utilize the 2000 A season harvest specification of Atka mackerel total allowable catch (TAC) in the Central Aleutian District, and because the 2000 A season critical habitat percentage of Atka mackerel allocated to the Central Aleutian District has been reached.

DATES: Effective 1200 hrs, Alaska local time (A.l.t.), April 3, 2000, until 1200 hrs, A.l.t., April 15, 2000.

FOR FURTHER INFORMATION CONTACT: Andrew Smoker, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

The A season apportionment of the 2000 TAC for Atka mackerel in the Central Aleutian District is 11,424, metric tons (mt), of which no more than 7,654 mt may be harvested from critical habitat (65 FR 8282, February 18, 2000). See § 679.20(c)(3)(iii) and 679.22(a)(8)(iii)(B).

The directed fishery for Atka mackerel in the Central Aleutian District was closed to reserve amounts anticipated to be needed for incidental catch in other fisheries (65 FR 11249, March 2, 2000). NMFS has determined that as of March 18, 2000, approximately 2,000 mt remains in the A season Central Aleutian District directed fishing allowance.

The Administrator, Alaska Region, NMFS (Regional Administrator) has determined that the 2000 A season directed fishing allowance for Atka mackerel in the Central Aleutian District has not been reached. Therefore, NMFS is terminating the previous closure and is opening directed fishing for Atka mackerel in the Central Aleutian District of the BSAI.

In accordance with § 679.22(a)(8)(iii)(A), the Regional Administrator, has determined that the A season allowable harvest of Atka mackerel in Steller Sea lion critical habitat within the Central Aleutian District as specified under the 2000 harvest specifications has been reached. Consequently, NMFS is prohibiting trawling in critical habitat, as defined at 50 CFR part 226, Table 1 and Table 2 in the Central Aleutian District of the BSAI.

Classification

This action responds to the best available information recently obtained from the fishery. It must be implemented immediately to fully utilize the 2000 harvest specification of Atka mackerel TAC in the Central Aleutian District and to avoid jeopardy to the continued existence of Steller sea lions. Providing prior notice and opportunity for public comment for this action is impracticable and contrary to the public interest. NMFS finds for good cause that the implementation of this action cannot be delayed for 30 days. Accordingly, under 5 U.S.C. 553(d), a delay in the effective date is hereby waived.

This action is required by § 679.20 and § 679.22 and is exempt from review under E.O. 12866.

Authority: 16 U.S.C. 1801 et seq.

Dated: April 3, 2000
Bruce C. Morehead,
Acting Director, Office of Sustainable Fisheries, National Marine Fisheries Service.

[FR Doc. 00-8547 Filed 4-3-00; 4:55 pm]

BILLING CODE 3510-22-F